DEPARTMENT OF HEALTH AND HUMAN SERVICES

National Institutes of Health

Eunice Kennedy Shriver National Institute of Child Health and Human Development Amended; Notice of Meeting

Notice is hereby given of a change in the meetings of the National Institute of Child Health and Human Development Special Emphasis Panel, June 11, 2015, 2:00 p.m. to June 11, 2015, 4:00 p.m., National Institutes of Health, 6100 Executive Boulevard, Rockville, MD 20852 which was published in the Federal Register on May 15, 2015, 2015-11711 @ 3:00 p.m. Vol 80, 94, page 27978.

The meeting notice is amended to change the date/time from June 11, 2015 @ 2:00 p.m. to June 12, 2015 @ 3:00 p.m. The meeting is closed to the public.

Dated: May 15, 2015.
Carolyn Baum,
Program Analyst, Office of Federal Advisory Committee Policy.

[FR Doc. 2015-12251 Filed 5-20-15; 8:45 am]

BILLING CODE 4140-01-P